DEPARTMENT OF VETERANS AFFAIRS

[OMB Control No. 2900-NEW (Pension and Parents DIC Participants)]

Proposed Information Collection Activity: Proposed Collection; Comment Request

AGENCY: Office of Planning and Analysis, Department of Veterans Affairs.

ACTION: Notice.

SUMMARY: The Office of Planning and Analysis, Department of Veterans Affairs (VA), is announcing an opportunity for public comment on the proposed collection of certain information by the agency. Under the Paperwork Reduction Act (PRA) of 1995, Federal agencies are required to publish notice in the Federal Register concerning each proposed collection of information, including each proposed new collection of information, and allow 60 days for public comment in response to the notice. This notice solicits comments on information that will be collected by a telephone survey to assess the effectiveness and efficiency of VA programs.

DATES: Written comments and recommendations on the proposed collection of information should be received on or before August 5, 2002.

ADDRESSES: Submit written comments on the collection of information to John A. Corso, Office of Assistant Secretary for Planning and Analysis (008B), Department of Veterans Affairs, 810 Vermont Ave., NW., Washington, DC 20420 or e-mail john.corso@mail.va.gov. Please refer to “OMB Control No. 2900-NEW (Pension and Parents DIC Participants)” in any correspondence.

FOR FURTHER INFORMATION CONTACT: John A. Corso at (202) 273-5927 or FAX (202) 273-5993.

SUPPLEMENTARY INFORMATION: Under the PRA of 1995 (Public Law 104-13; 44 U.S.C., 3501-3520), Federal agencies must obtain approval from the Office of Management and Budget (OMB) for each collection of information they conduct or sponsor. This request for comment is being made pursuant to Section 3506(c)(2)(A) of the PRA.

With respect to the following collection of information, the Office of Planning and Analysis invites comments on: (1) Whether the proposed collection of information is necessary for the proper performance of VA's functions, including whether the information will have practical utility; (2) the accuracy of VA's estimate of the burden of the proposed collection of information; (3) ways to enhance the quality, utility, and clarity of the information to be collected; and (4) ways to minimize the burden of the collection of information on respondents, including through the use of automated collection techniques or the use of other forms of information technology.

Title: Survey of Department of Veterans Affairs Pension and Parents DIC Participants.

OMB Control Number: None assigned.

Type of Review: New collection.

Abstract: The purpose of this evaluation is to assess the effectiveness and efficiency of the VA Pension and Parents' DIC programs. These are needs-based programs that provide benefits to wartime veterans who are permanently and totally disabled due to non-service-connected causes, surviving spouses of deceased wartime veterans, and needy parents of veterans whose deaths were service-connected.

Affected Public: Individuals or households.

Estimated Time Per Respondent and Annual Burden: 2,871 hours.

a. Veterans @ 45 minutes per response = 981.75 hours.

b. Spouses @ 45 minutes per response = 978 hours.

c. Parents @ 45 minutes per response = 911.25 hours.

Frequency of Response: One-time.

Estimated Number of Respondents: 3,828.

a. Veterans—1,309.

b. Spouses—1,304.

c. Parents—1,215.

Dated: March 20, 2002.
By direction of the Secretary.
Donald L. Neilson,
Director, Information Management Service.

[FR Doc. 02-13875 Filed 6-3-02; 8:45 am]

BILLING CODE 8320-01-P